DEPARTMENT OF HEALTH AND HUMAN SERVICES

Administration for Children and Families

Proposed Information Collection Activity; Comment Request

Proposed Projects

Title: Hispanic Healthy Marriage Initiative Grantee Implementation Evaluation.

OMB No.: New Collection.

Description: The Administration for Children and Families (ACF), in partnership with the Office of the Assistant Secretary for Planning and Evaluation (ASPE), U.S. Department of Health and Human Services, is proposing an information collection activity as part of the Hispanic Healthy Marriage Initiative (HHMI) Grantee Implementation Evaluation study. The proposed information collection consists of two components: (1) semistructured interviews with key respondents involved with selected marriage education programs serving Hispanic couples and individuals; and (2) focus groups with Hispanic individuals and couples participating in selected marriage education programs or declining to participate in such programs. Through this information collection and other study activities, ACF and ASPE seek to identify the unique cultural needs of Hispanic couples and families that have implications for the design and delivery of healthy marriage education services to Hispanics, recognizing their diversity with respect to country of origin, language, and level of acculturation, among other factors.

Respondents: Marriage education program directors and managers; staff responsible for outreach, recruitment and intake activities in marriage education programs; marriage education instructors; key persons in partner organizations; and Hispanic individuals and couples.

Annual Burden Estimates
Instrument | Number of respondents | Number of responses per respondent | Average burden hours per response | Total burden hours
Program Staff Discussion Guide | 81 | 1 | 2 | 162
Partners/Community Leaders Discussion Guide | 54 | 1 | 2 | 108
Participant Focus Group Discussion Guide | 180 | 1 | 1 | 180

Estimated Total Annual Burden Hours: 450

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enf ant Promenade, SW., Washington, DC 20447, Attn: OPRE Reports Clearance Officer. E-mail address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 18, 2008.
Brendan C. Kelly,
OPRE Reports Clearance Officer.

[FR Doc. E8-14220 Filed 6-24-08; 8:45 am]

BILLING CODE 4184-01-M